FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 20, 2002.

A. Federal Reserve Bank of Richmond (A. Linwood Gill, III, Vice President) 701 East Byrd Street, Richmond, Virginia 23261-4528:

1. Michael Leo Middleton, Sara Ann Middleton and Barbara Ann Ehrenstrom, all of La Plata, Maryland, Rebecca Lynn McDonald, Vienna, Virginia, Kate Elizabeth Middleton, Arlington, Virginia, James Edgar Middleton, Waldorf, Maryland, Frances Leona Rock, Westminster, Maryland, and Muriel Theresa Werking, Port Tobacco, Maryland; to acquire voting shares of Tri-County Financial Corporation, Waldorf, Maryland, and thereby indirectly acquire Community Bank of Tri-County, Waldorf, Maryland.

B. Federal Reserve Bank of Chicago (Phillip Jackson, Applications Officer) 230 South LaSalle Street, Chicago, Illinois 60690-1414:

1. John R. Madden,Oak Brook, Illinois, Lenore McCarter, LaGrange Park, Illinois, Edward J. Madden and Debbie Maloney, both of Chicago, Illinois, John J. Madden, and Martin P. Madden, both of LaGrange, Illinois, Marilyn Hessert and Thomas Hessert, both of Cherry Hill, New Jersey, Thomas Herbsrtitt, Franklin Park, Illinois, Jane Lyman, Winnetka, Illinois, Julie Scanlon, Western Springs, Illinois, and Amy Reardon, River Forest, Illinois; to acquire control of First Schaumburg Bancorporation, Inc., Schaumburg, Illinois, and thereby indirectly acquire Heritage Bank of Schaumburg, Schaumburg, Illinois, by utilizing Schaumburg Bancshares, Inc., Hinsdale, Illinois. First Schaumburg Bancorporation, Inc.’s name will be change to Schaumburg Bancshares, Inc.

Board of Governors of the Federal Reserve System, April 30, 2002.
Robert deV. Frierson,
Deputy Secretary of the Board.

[FR Doc. 02-11096 Filed 5-3-02; 8:45 am]

BILLING CODE 6210-01-S